DEPARTMENT OF COMMERCE

National Oceanic and Atmospheric Administration

[I.D. 120103E]

Endangered Species; File No. 1375

AGENCY: National Marine Fisheries Service (NMFS), National Oceanic and Atmospheric Administration (NOAA), Commerce.

ACTION: Receipt of application for modification

SUMMARY: Notice is hereby given that Dr. Thomas J. Kwak, U.S. Geological Survey, North Carolina Cooperative Fish and Wildlife Research Unit, Box 7617, 201 David Clark Labs, North Carolina State University, Raleigh, North Carolina 27695-7617, has requested a modification to scientific research permit no. 1375.

DATES: Written or telefaxed comments must be received on or before January 12, 2004.

ADDRESSES: The modification request and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)713-0376, provided the facsimile is confirmed by hard copy submitted by mail and postmarked no later than the closing date of the comment period.

FOR FURTHER INFORMATION CONTACT: Jennifer Jefferies or Ruth Johnson, (301) 713-2289.

SUPPLEMENTARY INFORMATION: The subject modification to Permit No. 1375, issued on March 27, 2003 (68 FR 16002) is requested under the authority of the Endangered Species Act of 1973, as amended (16 U.S.C. 1531 et seq.) and the regulations governing the taking, importing, and exporting of endangered and threatened species (50 CFR parts 222-226).

Permit No. 1375 authorized the permit holder to deploy 1,000 hatchery-reared juvenile shortnose sturgeon (Acipenser brevirostrum) in cages at 10 test sites within the Roanoke/Albemarle River system for 28 days. The fish were then supposed to be euthanized and their tissue analyzed for contaminants. The results of this study would have provided needed information to determine if water quality is a limiting factor of the ecological success of shortnose sturgeon in this river system. When the initial study was conducted, however, high water temperatures and low dissolved oxygen contributed to a shortened experiment time. Although the results obtained were useful, the permit holder wants to repeat the experiment and requests authorization to obtain an additional 1000 fish for that purpose.

Dated: December 8, 2003.
Stephen L. Leathery,
Chief, Permits, Conservation and Education Division, Office of Protected Resources, National Marine Fisheries Service.

[FR Doc. 03-30800 Filed 12-11-03; 8:45 am]

BILLING CODE 3510-22-S